SURFACE TRANSPORTATION BOARD

[Docket No. EP 290 (Sub-No. 4)]

Railroad Cost Recovery Procedures—Productivity Adjustment

AGENCY: Surface Transportation Board.

ACTION: Modified Proposed Railroad Cost Recovery Procedures Productivity Adjustment.

SUMMARY: In a decision served on September 29, 2017, the Surface Transportation Board proposes a second tentative productivity adjustment for the change in the railroad productivity for the 2011-2015 averaging period, modified to reflect new data, and invites comments on a new “linking factor” computed to enable the modified 2015 productivity adjustment to be compared to prior years' productivity adjustments. The Board will also hold a technical workshop with interested parties and Board staff.

DATES: Parties may file written comments by November 13, 2017, and may file replies by December 13, 2017. In addition, a technical workshop with interested parties and Board staff will be held on October 17, 2017, at 10:00 a.m. Prior to the workshop, interested parties may submit technical questions as described in the Board's decision to Economic.Data@stb.gov by October 11, 2017.

ADDRESSES: Send written comments (an original and 10 copies) referring to Docket No. EP 290 (Sub-No. 4) to: Surface Transportation Board, 395 E Street SW., Washington, DC 20423-0001. The technical workshop with interested parties and Board staff will be held on October 17, 2017, at 10:00 a.m. in the Board's Hearing Room at 395 E Street, SW., Washington, DC 20423-0001.

FOR FURTHER INFORMATION CONTACT: Pedro Ramirez, (202) 245-0333. Federal Information Relay Service (FIRS) for the hearing impaired, (800) 877-8339.

SUPPLEMENTARY INFORMATION: This workshop will be available on the Board's Web site by live video streaming. To access the workshop, click on the “Live Video” link under “Information Center” at the left side of the home page beginning at October 17, 2017, at 10:00 a.m. Additional information is contained in the Board's decision, which is available on our Web site at http://www.stb.gov. Copies of the decision may be purchased by contacting the Board's Office of Public Assistance, Governmental Affairs, and Compliance at (202) 245-0236. Assistance for the hearing impaired is available through FIRS at (800) 877-8339.

Decided: September 29, 2017.
By the Board, Board Members Begeman, Elliott, and Miller.
Marline Simeon,
Clearance Clerk.

[FR Doc. 2017-21348 Filed 10-3-17; 8:45 am]

BILLING CODE 4915-01-P